DEPARTMENT OF AGRICULTURE

National Agricultural Library

Notice of Intent To Seek Approval To Collect Information

AGENCY: National Agricultural Library, Agricultural Research Service, USDA.

ACTION: Notice and request for comments.

SUMMARY: In accordance with the Paperwork Reduction Act of 1995 (Pub. L. 104-13) and Office of Management and Budget (OMB) regulations at 5 CFR part 1320 (60 FR 44978, August 29, 1995), this notice announces the National Agricultural Library's intent to request approval for new information collection from personnel at schools receiving USDA funds for Child Nutrition Programs.

DATES: Comments on this notice must be received by February 21, 2002, to be assured of consideration.

ADDRESSES: Address all comments concerning this notice to Elizabeth Hill, Nutrition Information Specialist Food and Nutrition Information Center /NAL/ARS/USDA 10301 Baltimore Ave. Rm 105, Beltsville, MD 20705-2351. Submit electronic comments to lhill@nal.usda.gov.

FOR FURTHER INFORMATION CONTACT: Elizabeth Hill, 301-504-6415.

SUPPLEMENTARY INFORMATION: Title: Utilization of Food and Nutrition Information Center (FNIC) Resources by Personnel at Schools Receiving USDA Funds for Child Nutrition Programs.

OMB Number: Not yet assigned.

Expiration Date: N/A.

Type of Request: Approval for new data collection.

Abstract: The collection of information using a one-time, voluntary customer survey regarding utilization of FNIC resources will provide personnel in schools receiving USDA funds for Child Nutrition Programs an opportunity to comment on their current usage of FNIC resources and the types of resources that are of greatest value to them. This information will assist FNIC staff in continually improving its resources to meet the usage patterns and needs of this target audience.

FNIC does not have a formal means of determining the use of FNIC resources (including the website) by personnel at schools receiving USDA funds for Child Nutrition Programs. To collect this information, FNIC proposes to provide attendees of selected education related conferences with a password to access a one-time, voluntary, electronic FNIC Resources usage survey. The information collected from this survey will be used to evaluate current FNIC resources and assist in planning and managing future projects. The Utilization of FNIC Resources Survey is comprised of seven questions where customers report on their use of FNIC resources. Some examples of survey components include: “Please rate the usefulness of the following FNIC resources” and “How often do you think you will use FNIC resources in the next 12 months?” The survey also asks for customers to report which websites they are currently accessing for nutrition information as well as to provide any additional comments they deem appropriate.

Estimate of Burden: Public reporting burden for this collection of information is estimated to average 15 minutes per response.

Respondents: Educators and related personnel involved in child nutrition and child nutrition education. Respondents will be recruited at education related conferences.

Estimated Number of Respondents: 250 per year.

Estimated Total Annual Burden on Respondents: 63 hours total. Comments are invited on (a) Whether the proposed collection of information is necessary for the proper performance of the functions of the agency, including whether the information will have practical utility; (b) the accuracy of the agency's estimate of the burden of the proposed collection of information, including the validity of the methodology and the assumptions used; (c) ways to enhance the quality, utility, and clarity of the information to be collected; and (d) ways to minimize the burden of the collection of information on those who respond, including the use of appropriate automated, electronic, mechanical, or other technology. Comments should be sent to the address in the preamble. All responses to this notice will be summarized and included in the request for Office of Management and Budget (OMB) approval. All comments will become a matter of public record.

Dated: November 14, 2001.
Maria Pisa,
Acting Director, National Agricultural Library.

[FR Doc. 01-31128 Filed 12-17-01; 8:45 am]

BILLING CODE 3410-03-P